DEPARTMENT OF COMMERCE

International Trade Administration

[A-403-801, C-403-802]

Fresh and Chilled Atlantic Salmon From Norway: Extension of Time Limits for Preliminary and Final Results of Full Third Antidumping and Countervailing Duty Sunset Reviews

AGENCY: Import Administration, International Trade Administration, Department of Commerce.

DATES: Effective Date: April 12, 2011.

FOR FURTHER INFORMATION CONTACT: Kristen Johnson for (CVD) at 202-482-4793 and Eric Greynolds for (AD) at 202-482-6071, AD/CVD Operations, Office 3, Import Administration, International Trade Administration, U.S. Department of Commerce, 14th Street and Constitution Avenue, NW., Washington, DC 20230.

Background

On January 3, 2011, the Department of Commerce (the Department) initiated the third sunset reviews of the antidumping (AD) and countervailing duty (CVD) orders on fresh and chilled Atlantic salmon from Norway, pursuant to section 751(c) of the Tariff Act of 1930, as amended (the Act). See Initiation of Five-Year (“Sunset”) Review, 76 FR 89 (January 3, 2011). Within the deadline specified in 19 CFR 351.218(d)(1)(i), the Department received a notice of intent to participate, in both the AD and CVD sunset reviews, on behalf of Phoenix Salmon U.S., Inc. (Phoenix Salmon), a domestic interested party. Phoenix Salmon claimed interested party status under section 771(9)(C) of the Act, as a producer of subject merchandise.

The Department received timely substantive responses from Phoenix Salmon and the following respondent interested parties: the Government of Norway, Norwegian Seafood Federation (NSF), and the Aquaculture Division of the Norwegian Seafood Association (ADNSA). The domestic and respondent interested parties also submitted to the Department timely rebuttal comments.

On April 6, 2011, after analyzing the submissions from the interested parties and finding that NSF and ADNSA have standing as foreign interested parties and that the substantive responses submitted by all of the interested parties are adequate, the Department determined to conduct full sunset reviews of the AD and CVD orders on fresh and chilled Atlantic salmon from Norway. See Memorandum to Gary Taverman, Acting Deputy Assistant Secretary for Antidumping and Countervailing Duty Operations, from Melissa Skinner, Director, Antidumping and Countervailing Duty Operations, Office 3, regarding “Adequacy Determination: Third Sunset Reviews of the Antidumping and Countervailing Duty Orders on Fresh and Chilled Atlantic Salmon From Norway,” (April 6, 2011).

Extension of Time Limits

In accordance with section 751(c)(5)(B) of the Act, the Department may extend the period of time for making its determination by not more than 90 days, if it determines that the review is extraordinarily complicated. We determine that the AD and CVD sunset reviews are extraordinarily complicated, pursuant to section 751(c)(5)(C) of the Act, because of a large number of complex issues in each review that the Department must analyze.

The preliminary results of the full sunset reviews of the AD and CVD orders on fresh and chilled Atlantic salmon from Norway are scheduled for April 23, 2011, and the final results of these reviews are scheduled for August 31, 2011. The Department is extending the deadlines for both the preliminary and final results of the full sunset reviews.

As a result, the Department intends to issue the preliminary results of the full sunset reviews of the AD and CVD orders on fresh and chilled Atlantic salmon from Norway on July 22, 2011, and the final results of the reviews on November 29, 2011. These dates are 90 days from the original scheduled dates of the preliminary and final results of these full sunset reviews.

This notice is issued in accordance with sections 751(c)(5)(B) and (C)(v) of the Act.

Dated: April 6, 2011.
Gary Taverman,
Acting Deputy Assistant Secretary for Antidumping and Countervailing Duty Operations.

[FR Doc. 2011-8735 Filed 4-11-11; 8:45 am]

BILLING CODE 3510-DS-P